DEPARTMENT OF TRANSPORTATION

Federal Aviation Administration

Notice of Passenger Facility Charge (PFC) Approvals and Disapprovals

AGENCY: Federal Aviation Administration (FAA), DOT.

ACTION: Monthly Notice of PFC Approvals and Disapprovals. In December 1999, there were five applications approved. Additionally, 14 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Appoved

Public Agency: City of Redmond, Oregon.

Application Number: 99-03-C-00-RDM.

Application Type: Impose and use of PFC.

PFC Level: $3.00.

Total PFC Revenue Approved in This Decision: $1,021,900.

Earliest Charge Effective Date: December 1, 2000.

Estimated Charge Expiration Date: April 1, 2004.

Class of Air Carriers Not Required To Collect PFC's: Air taxi/commercial operators.

Determination: Approved. Based on information contained in the public agency's application, the FAA has determined that the approved class accounts for less than 1 percent of the total annual enplanements at Roberts Field—Redmond Municipal Airport.

Brief Description of Projects Approved for Collection and Use: Reconstruct taxiway F north and construct exit taxiway and holding apron.

Installation of distance-to-go signs on runway 10/28 and runway end identifier lights on runway 4.

Reconstruct taxiway F south and relocate taxiway H.

Construct building for storage and maintenance of airport snow and ice control equipment and materials.

Decision Date: December 8, 1999.

FOR FURTHER INFORMATION CONTACT: Mary Vargas, Seattle Airports District Office, (425) 227-2660.

Public Agency: Scotts Bluff County, Gering, Nebraska.

Application Number: 99-01-I-00-BFF.

Application Type: Impose a PFC.

PFC Level: $3.00.

Total PFC Revenue Approved in This Decision: $108,000.

Earliest Charge Effective Date: March 1, 2000.

Estimated Charge Expiration Date: March 1, 2003.

Class of Air Carriers Not Required To Collect PFC's: None.

Brief Description of Project Approved for Collection Only: Renovate terminal building.

Decision Date: December 13, 1999.

For Further Information Contact: Lorna Sandridge, Central Region Airports Division, (816) 329-2641.

Public Agency: City of Klamath Falls, Oregon.

Application Number: 99-01-C-LMT.

Application Type: Impose and use a PFC.

PFC Level: $3.00.

Total PFC Revenue Approved in This Decision: $426,374.

Earliest Charge Effective Date: March 1, 2000.

Estimated Charge Expiration Date: November 1, 2004.

Class of Air Carriers Not Required To Collect PFC's: None.

Brief Description of Projects Approved for Collection and Use

Airport master plan study.

Taxiway extension.

Revise airport layout plan.

Taxiway reconstruction.

Apron reconstruction.

Install Part 107 security gates.

Reconstruct T-hangar taxiway.

Sealcoat runway 7/25.

Taxiway construction.

Apron construction.

Access road construction.

Construct perimeter fencing.

Parking lot rehabilitation.

Land acquisition.

Terminal area improvements.

Airfield safety area study.

Pavement maintenance study.

Runway 7/25 safety area improvements.

Acquire snow removal equipment.

Acquire handicapped lift.

Brief Description of Project Withdrawn. Runway safety area design and construction.

Determination: This project was withdrawn by the public agency in its letter to the FAA dated September 24, 1999. Therefore, the FAA did not rule on this project in this decision.

Decision Date: December 20, 1999.

For Further Information Contact: Mary Vargas, Seattle Airports District Office, (425) 227-2660.

Public Agency: City of Minot, North Dakota.

Application Number: 99-04-C-00-MOT.

Application Type: Impose and use a PFC.

PFC Level: $3.00.

Total PFC Revenue Approved in This Decision: $757,551.

Earliest Charge Effective Date: June 1, 2000.

Estimated Change Expiration Date: February 1, 2004.

Class of Air Carriers Not Required To Collect PFC'S: Air taxi/commercial operators filing FAA Form 1800-31.

Determination: Approved. Based on information contained in the public agency's application, the FAA has determined that the approved class accounts for less than 1 percent of the total annual enplanements at Minot International Airport.

Brief Description of Projects Approved for Collection and Use.

PFC program administration and application preparation.

Acquisition of passenger loading bridges.

Acquire aircraft rescue and firefighting (ARFF) vehicle.

Rehabilitate porous friction course.

Construct blast pads on runway 13/31.

Rehabilitate taxiway C.

Install distance remaining signs and modify existing signs.

Construct service road.

ARFF, snow removal equipment (SRE) and security radios.

Acquire ARFF vehicle.

Reconstruct and mark taxiway F.

Security access control system installation.

Install security fencing.

Replace segmented circle and rotating beacon, and install airport signs.

Acquire SRE (rotary snow blower).

Upgrade security access control system.

Rehabilitate taxiway A.

Decision Date: December 21, 1999.

For Further Information Contact: Irene Porter, Bismarch Airports District Office, (701) 250-4385.

Public Agency: New York State Department of Transportation, New Windsor, New York.

Application Number: 00-02-C-00-SWF.

Application Type: Impose and use a PFC.

PFC Level: $3.00.

Total PFC Revenue Approved in This Decision: $4,558,000.

Earliest Charge Effective Date: January 1, 2000.

Estimated Change Expiration Date: December 1, 2003.

Class of Air Carriers Not Required To Collect PFC'S: (1) Unscheduled air taxi carriers operating under Part 135; (2) unscheduled charter air carriers operating under Part 121.

Determination: Approved. Based on information submitted in the public agency's application, the FAA has determined that each approved class accounts for less than 1 percent of the total annual enplanements at Stewart International Airport.

Brief Description of Projects Approved for Collection and Use.

Overlay and groove runway 9/27.

Pavement management plan and topographic mapping.

Glycol collection improvements.

North cargo ramp expansion.

Aircraft ramps rehabilitation.

Decision Date: December 30, 1999.

For further information contact: Dan Vornea, New York Airports District Office, (516) 227-3812.

Amendments to PFC Approvals
Amendment No. City, State | Amendment approved date | Original approved net PFC revenue | Amended approved net PFC revenue | Original estimated charge exp. date | Amended estimated charge exp. date
97-01-C-01-ABI, Abilene, TX | 05/05/99 | 1,210,647 | 2,008,611 | 09/01/05 | 01/01/15
97-01-C-02-MOB, Mobile, AL | 10/25/99 | 1,300,000 | 1,791,374 | 06/01/99 | 06/01/99
98-01-C-01-JNU, Juneau, AK | 12/01/99 | 1,089,272 | 1,172,772 | 04/01/00 | 06/01/00
92-01-I-05-SRQ, Sarasota, FL | 12/01/99 | 21,737,893 | 21,287,893 | 03/01/01 | 01/01/01
92-03-C-02-SRQ, Sarasota, FL | 12/01/99 | 650,000 | 1,100,000 | 07/01/01 | 07/01/01
96-04-C-01-PLN, Pellston, MI | 12/01/99 | 27,600 | 16,265 | 09/01/02 | 07/01/02
95-02-C-04-STL, St. Louis, MO | 12/01/99 | 108,214,867 | 108,214,867 | 07/01/98 | 07/01/98
98-05-C-01-MCO, Orlando, FL | 12/09/99 | 231,705,000 | 111,484,000 | 05/01/05 | 01/01/01
93-02-C-01-SEA, Seattle, WA | 12/09/99 | 47,500,500 | 48,790,226 | 01/01/96 | 01/01/96
94-02-C-02-GEG, Spokane, WA | 12/09/99 | 4,992,228 | 4,913,994 | 05/01/00 | 05/01/00
92-01-C-03-HPN, White Plains, NY | 12/20/99 | 22,383,000 | 19,383,000 | 02/01/15 | 10/01/03
92-01-C-04-DTW, Detroit, MI | 12/21/99 | 1,820,657,000 | 1,604,483,000 | 10/01/31 | 10/01/29
92-03-C-02-DTW, Detroit, MI | 12/21/99 | 60,000,000 | 54,967,000 | 10/01/31 | 10/01/29
98-05-C-02-MCO, Orlando, FL | 12/29/99 | 111,484,000 | 111,734,000 | 01/01/01 | 01/01/01

Issued in Washington, DC, on January 14, 2000.
Eric Gabler,
Manager, Passenger Facility Charge Branch.

[FR Doc. 00-1650 Filed 1-21-00; 8:45 am]

BILLING CODE 4910-13-M